DEPARTMENT OF HEALTH AND HUMAN SERVICES

National Institutes of Health

Office of the Director, National Institutes of Health Amended Notice of Meeting

Notice is hereby given of a change in the meeting of the Council of Councils, January 24, 2020, 8:15 a.m. to 4:00 p.m., National Institutes of Health, John E. Porter Neuroscience Research Center, Building 35A, Rooms 620/630, 35 Convent Drive, Bethesda, MD 20892 which was published in the Federal Register December 16, 2019, 84 FR 68467.

This meeting notice is amended to change the open and closed session meeting times. The morning open session will now be held from 8:15 a.m. to 11:55 a.m.; the closed session will be held from 12:25 p.m.-1:15 p.m.; and the afternoon open session will be held from 1:15 p.m. to 4:00 p.m.

Dated: January 16, 2020.
Ronald J. Livingston, Jr.,
Program Analyst, Office of Federal Advisory Committee Policy.

[FR Doc. 2020-01028 Filed 1-22-20; 8:45 am]

BILLING CODE 4140-01-P